Notice of September 11, 2012—Continuation of the National Emergency With Persons Who Commit, Threaten To Commit, or Support Terrorism

Correction

In Presidential document 2012-22710 beginning on page 56519 in the issue of Wednesday, September 12, 2012, make the following correction:

On page 56519, the heading should read “Continuation of the National Emergency With Respect to Persons Who Commit, Threaten To Commit, or Support Terrorism”.

[FR Doc. C1-2012-22710

Filed 10-01-12; 8:45 am]

Billing Code 1505-01-D